DEPARTMENT OF ENERGY

Office of Fossil Energy

[FE Docket Nos. 03-33-NG, et al.]

Husky Gas Marketing, Inc., et al.; Orders Granting and Vacating Authority To Import and Export Natural Gas, and Import of Liquefied Natural Gas

AGENCY: Office of Fossil Energy, DOE.

ACTION: Notice of Orders.

SUMMARY: The Office of Fossil Energy (FE) of the Department of Energy gives notice that during August 2003, it issued Orders granting and vacating authority to import and export natural gas, and import of liquefied natural gas. These Orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, SW, Washington, DC 20585, (202) 586-9478. The Docket Room is open between the hours of 8 a.m. and 4:30 p.m., Monday through Friday, except Federal holidays.

Issued in Washington, DC, on September 16, 2003.
Clifford P. Tomaszewski,
Manager, Natural Gas Regulation, Office of Natural Gas & Petroleum Import & Export Activities, Office of Fossil Energy.

Appendix—Orders Granting and Vacating Import/Export Authorizations
[DOE/FE Authority]
Order No. | Date issued | Importer/exporter FE docket No. | Import volume | Export volume | Comments
1882 | 8-5-03 | Husky Gas Marketing, Inc.; 03-33-NG | 250 Bcf |  | Import and export up to a combined total of natural gas from and to Canada, beginning on August 10, 2003, and extending through August 9, 2005.
1883 | 8-5-03 | Weyerhaeuser Company; 03-36-NG | 24 Bcf |  | Import natural gas from Canada, beginning on November 1, 2003, and extending through October 31, 2005.
1884 | 8-6-03 | NSTAR Gas Company; 03-39-NG | 20 Bcf |  | Import and export up to a combined total of natural gas from and to Canada, beginning on November 1, 2003, and extending through October 31, 2005.
1885 | 8-18-03 | Padre Valencia Energy Corporation; 03-38-LNG | 107 Mcf |  | Import LNG from other sources beginning on October 1, 2003, and extending through September 30, 2005.
1886 | 8-18-03 | Chevron U.S.A. Inc.; 03-41-NG | 55 Bcf |  | Import natural gas from Canada, beginning on August 18, 2003, and extending through August 17, 2005.
1785-A | 8-18-03 | Chevron U.S.A. Inc.; 02-38-NG |  |  | Vacate blanket authority.
1887 | 8-18-03 | OXY Energy Canada, LLC; 03-40-NG | 400 Bcf |  | Import and export up to a combined total of natural gas from and to Canada, beginning on September 1, 2003, and extending through August 31, 2005.
1888 | 8-19-03 | Sierra Pacific Power Company; 03-43-NG | 100 Bcf |  | Import natural gas from Canada, beginning on January 1, 2004, and extending through December 31, 2005.
1889 | 8-25-03 | ConocoPhillips Company; 03-44-NG | 300 Bcf |  | Import and export up to a combined total of natural gas from and to Canada and Mexico, beginning on August 27, 2003, and extending through August 26, 2005.
1801-A | 8-26-03 | Emera Energy Services, Inc.; 02-53-NG |  |  | Vacate blanket authority.
1890 | 8-26-03 | Emera Energy Services, Inc.; 03-37-NG | 400 Bcf |  | Import and export up to a combined total of natural gas from and to Canada, beginning on September 1, 2003, and extending through August 31, 2005.
1891 | 8-26-03 | EnCana Marketing (USA) Inc.; 03-45-NG | 500 Bcf |  | Import and export up to a combined total of natural gas from and to Canada and Mexico, and import LNG from other sources, beginning on June 30, 2003, and extending through June 29, 2005.
1892 | 8-28-03 | TXU Portfolio Management Company LP; 03-47-NG | 240 Bcf 240 Bcf |  | Import and export up to a combined total of natural gas from and to Canada, and import and export up to a combined total of natural gas from and to Mexico, beginning on July 27, 2003, and extending through July 26, 2005.

[FR Doc. 03-26170 Filed 10-15-03; 8:45 am]

BILLING CODE 6450-01-P